DEPARTMENT OF TRANSPORTATION

Federal Aviation Administration

14 CFR Part 39

[Docket No. FAA-2014-0042; Directorate Identifier 2013-CE-050-AD; Amendment 39-17823; AD 2014-07-09]

RIN 2120-AA64

Airworthiness Directives; British Aerospace Regional Aircraft Airplanes

AGENCY: Federal Aviation Administration (FAA), Department of Transportation (DOT).

ACTION: Final rule.

SUMMARY: We are adopting a new airworthiness directive (AD) for British Aerospace Regional Aircraft Jetstream Series 3101 and Jetstream Model 3201 airplanes. This AD results from mandatory continuing airworthiness information (MCAI) issued by an aviation authority of another country to identify and correct an unsafe condition on an aviation product. The MCAI describes the unsafe condition as inadequate instructions for inspection for corrosion on the rudder upper hinge bracket and certain internal wing and drainage paths. We are issuing this AD to require actions to address the unsafe condition on these products.

DATES: This AD is effective May 27, 2014.

The Director of the Federal Register approved the incorporation by reference of a certain publication listed in the AD as of May 27, 2014.

ADDRESSES: You may examine the AD docket on the Internet at http://www.regulations.gov by searching for and locating Docket No. FAA-2014-0042; or in person at Document Management Facility, U.S. Department of Transportation, Docket Operations, M-30, West Building Ground Floor, Room W12-140, 1200 New Jersey Avenue SE., Washington, DC 20590.

For service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review this referenced service information at the FAA, Small Airplane Directorate, 901 Locust, Kansas City, Missouri 64106. For information on the availability of this material at the FAA, call (816) 329-4148.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Discussion

We issued a notice of proposed rulemaking (NPRM) to amend 14 CFR part 39 by adding an AD that would apply to British Aerospace Regional Aircraft Jetstream Series 3101 and Jetstream Model 3201 airplanes. The NPRM was published in the Federal Register on January 31, 2014 (79 FR 5323). The NPRM proposed to correct an unsafe condition for the specified products and was based on mandatory continuing airworthiness information (MCAI) originated by an aviation authority of another country. The MCAI states:

Compliance with the inspections in the Corrosion Prevention and Control Programme (CPCP) has been identified as a mandatory action for continued airworthiness and UK CAA AD 003-04-94 was issued to require operators to comply with those inspection instructions.

Since the issuance of that AD, reports have been received of finding extensive corrosion on the rudder upper hinge bracket. Although there is an existing zonal inspection of the area in the CPCP, it has been concluded that this is inadequate to identify the corrosion on this bracket and consequently, a new specific inspection of the rudder upper hinge bracket, task 200/EX/01 C2, has been added to the CPCP, currently at Revision 6. Failure of the rudder upper hinge bracket could lead to the onset of flutter and loss of control of the aeroplane.

In addition, although the CPCP already included a wing internal inspection to check for corrosion and to verify that all drainage paths are clear, prompted by feedback from the fleet sampling programme, a new, more specific, inspection of wing stations 36, 51 and 83, together with a check of the drainage paths, has been introduced into the CPCP through task 3/400/IN/01 C2. Failure to comply with these instructions could result in an unsafe condition.

For the reasons described above, this AD retains the requirements of UK CAA AD 003-04-94, which is superseded, and requires the implementation of the new inspections.

The MCAI can be found in the AD docket on the Internet at: http://www.regulations.gov/#!documentDetail;D=FAA-2014-0042-0002.

Comments

We gave the public the opportunity to participate in developing this AD. We received no comments on the NPRM (79 FR 5323, January 31, 2014) or on the determination of the cost to the public.

Conclusion

We reviewed the relevant data and determined that air safety and the public interest require adopting the AD as proposed except for minor editorial changes. We have determined that these minor changes:

• Are consistent with the intent that was proposed in the NPRM (79 FR 5323, January 31, 2014) for correcting the unsafe condition; and

• Do not add any additional burden upon the public than was already proposed in the NPRM (79 FR 5323, January 31, 2014).

Costs of Compliance

We estimate that this AD will affect 66 products of U.S. registry. We also estimate that it would take about 100 work-hours per product to comply with the basic requirements of this AD. The average labor rate is $85 per work-hour.

Based on these figures, we estimate the cost of the AD on U.S. operators to be $561,000, or $8,500 per product.

The scope of damage found in the required inspection could vary significantly from airplane to airplane. We have no way of determining how much damage may be found on each airplane or the cost to repair damaged parts on each airplane or the number of airplanes that may require repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0042; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-07-09 British Aerospace Regional Aircraft: Amendment 39-17823; Docket No. FAA-2014-0042; Directorate Identifier 2013-CE-050-AD.

(a) Effective Date

This airworthiness directive (AD) becomes effective May 27, 2014.

(b) Affected ADs

None.

(c) Applicability

This AD applies to British Aerospace Regional Aircraft Jetstream Series 3101 and Model 3201 airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as inadequate instructions for inspection for corrosion on the rudder upper hinge bracket and certain internal wing stations and drainage paths. We are issuing this AD to prevent, detect, and correct corrosion on the rudder upper hinge bracket and internal wing, which could lead to reduced structural integrity of the airplane with consequent loss of control.

(f) Actions and Compliance

Comply with this AD within the compliance times specified in paragraphs (f)(1) through (f)(4) of this AD, including all subparagraphs, unless already done:

(1) After May 27, 2014 (the effective date of this AD), except as required by paragraph (f)(2) of this AD, within the thresholds and intervals specified, incorporate into the FAA-approved maintenance program BAE Systems (Operations) Limited Jetstream Series 3100 & 3200 Corrosion Prevention and Control Programme, Manual Ref. JS/CPCP/01, Revision 6, dated November 15, 2010, in its entirety.

(2) Within 2 years after May 27, 2014 (the effective date of this AD), do the initial inspections specified in tasks 200/EX/01 C2 and 3/400/IN/01 C2 in BAE Systems (Operations) Limited Jetstream Series 3100 & 3200 Corrosion Prevention and Control Programme, Manual Ref. JS/CPCP/01, Revision 6, dated November 15, 2010.

(3) If any discrepancy, particularly corrosion, is found during any inspections or tasks required by paragraphs (f)(1) and (f)(2) of this AD, within the compliance time specified, repair or replace, as applicable, all damaged structural parts and components and do the maintenance procedures for corrective action following BAE Systems (Operations) Limited Jetstream Series 3100 & 3200 Corrosion Prevention and Control Programme, Manual Ref. JS/CPCP/01, Revision 6, dated November 15, 2010. If no compliance time is defined, do the applicable corrective action before further flight.

(4) You may comply with the requirements of paragraphs (f)(1) and (f)(2) of this AD by incorporating BAE Systems (Operations) Limited Jetstream Series 3100 & 3200 Corrosion Prevention and Control Programme, Manual Ref. JS/CPCP/01, Revision 6, dated November 15, 2010, into your maintenance program (instructions for continued airworthiness) and complying with that program.

(g) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

MCAI European Aviation Safety Agency (EASA) AD No.: 2012-0036, dated March 12, 2012, for related information. The MCAI can be found in the AD docket on the Internet at: http://www.regulations.gov/#!documentDetail;D=FAA-2014-0042-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) BAE Systems (Operations) Limited Jetstream Series 3100 & 3200 Corrosion Prevention and Control Programme, Manual Ref: JS/CPCP/01, Revision 6, dated November 15, 2010.

(ii) Reserved.

(3) For British Aerospace Regional Aircraft service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on April 4, 2014.
Earl Lawrence,
Manager, Small Airplane Directorate, Aircraft Certification Service.

[FR Doc. 2014-08142 Filed 4-21-14; 8:45 am]

BILLING CODE 4910-13-P